DEPARTMENT OF THE INTERIOR

National Park Service

[NPS-WASO-NRNHL-DTS#-31011;PPWOCRADI0, PCU00RP14.R50000]

National Register of Historic Places; Notification of Pending Nominations and Related Actions

AGENCY: National Park Service, Interior.

ACTION: Notice.

SUMMARY: The National Park Service is soliciting electronic comments on the significance of properties nominated before October 3, 2020, for listing or related actions in the National Register of Historic Places.

DATES: Comments should be submitted electronically by November 3, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before October 3, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Macon County

Macon County High School, 500 East Main St., Notasulga, SG100005781

ARKANSAS

Benton County

Shaw-Blair House, 11976 Tyson Rd., Lowell, SG100005757

Washington County

Elm Springs Cemetery, Historic Section, Northeast of the east end of School St. on Lawn View Ln., Elm Springs, SG100005759

IOWA

Muscatine County

McKee Button Company, 1000 Hershey Ave., Muscatine, SG100005784

MASSACHUSETTS

Berkshire County

Tyringham Center School, 2 Church Rd., Tyringham, SG100005764

Bristol County

Watson, Newell & Company Factory, 67 Mechanic St., Attleboro, SG100005761

Suffolk County

Cartoof & Sherman Apartments, 31-35 Wales St., Boston, SG100005763

Thane Street Historic District, 70-78 Harvard St, 22-24, 26-28, 30-32 Thane St, Boston, SG100005782

Intervale Street-Blue Hill Avenue Historic District, Blue Hill Ave. and Intervale St., Boston, SG100005783

MICHIGAN

Alpena County

Bingham School, 555 South 5th Ave., Alpena, SG100005778

Mason County

Haskell Manufacturing Company Building, 801 North Rowe St., Ludington, SG100005785

MONTANA

Cascade County

Monarch Depot Historic District, 10 Montana Ave., Monarch, SG100005745

Liberty County

Pugsley Bridge, Milepost 5.5 on Pugsley Bridge Rd., Chester vicinity, SG100005746

Yellowstone County

Fratt-Link House, 142 Clark Ave., Billings, SG100005777

NEBRASKA

Douglas County

Benson Commercial Historic District (Streetcar-Era Commercial Development in Omaha, Nebraska MPS), Centered along Maple St. between North 59th and North 63rd Sts., Omaha, MP100005766

Orchard Hill Commercial Historic District (Streetcar-Era Commercial Development in Omaha, Nebraska MPS), 4002-4016 Hamilton St., 1324-1330, 1406-1412 North 40th St., Omaha, MP100005767

Hope Lutheran Church, 2721 North 30th St., Omaha, SG100005768

Howard County

Our Lady of Mount Carmel Church and Cemetery (Rural Church Architecture in Nebraska MPS), 2450 17th Ave., Ashton vicinity, MP100005769

Lancaster County

Strode Building (Detroit-Lincoln-Denver Highway in Nebraska MPS), 1600-1608 O St., Lincoln, MP100005770

NORTH CAROLINA

Forsyth County

St. Paul's Episcopal Church, 520 Summit St., Winston-Salem, SG100005747

Gaston County

Trenton Cotton Mills, 612 West Main Ave., Gastonia, SG100005748

Guilford County

Melrose Hosiery Mill No. 1, 1533-1547 West English Rd., 105-109 SW Point Ave., High Point, SG100005749

Halifax County

Branch, William Jr. and Samuel Warren Branch, House, 16212 NC 125, Enfield, SG100005750

Pitt County

H. B. Sugg School, 3632 South George St., Farmville, SG100005751

VIRGINIA

Campbell County

Flat Creek Rural Historic District, Colonial Hwy. (VA 24), Dearborn Rd., Leesville Rd., Evington vicinity, SG100005773

WISCONSIN

Kenosha County

Barden Store, 622-628 58th St., Kenosha, SG100005752

Milwaukee County

Eagle Knitting Mills, 507 South 2nd St., Milwaukee, SG100005754

Koeffler-Baumgarten Double House, 817-819 North Marshall St., Milwaukee, SG100005755

Washburn County

Bona, Bishop Stanislaus Vincent, Cabin, W9420 Bona Dr., Minong, SG100005753

In the interest of preservation, a SHORTENED comment period has been requested for the following resource:

MASSACHUSETTS

Plymouth County

MAYFLOWER II (square-rigged sailing ship), State Pier, Pilgrim Memorial State Park, 79 Water St., Plymouth, SG100005762, Comment period: 3 days

A request for removal has been made for the following resource:

MICHIGAN

Calhoun County

Roosevelt Community House, 107 Evergreen Rd., Springfield, OT01000653

A request to move has been received for the following resources:

ARKANSAS

Benton County

Bentonville Confederate Monument (Civil War Commemorative Sculpture MPS), Public Sq. Park., near jct. of 2nd and Main Sts., Bentonville, MV96000459

Pope County

Latimore Tourist Home (Arkansas Highway History and Architecture MPS), 318 South Houston Ave., Russellville, MV11001049

Additional documentation has been received for the following resources:

ARKANSAS

Garland County

Brown, W. C., House (Additional Documentation), 2330 Central Ave., Hot Springs, AD86002862

Sebastian County

West Garrison Avenue Historic District (Additional Documentation), 100-525 Garrison Ave., Fort Smith, AD79000464

NEW JERSEY

Essex County

Maplewood Memorial Park (Additional Documentation), Bounded by Oakland & Dunnell Rds., Valley & Baker Sts., Maplewood, AD15000489

VIRGINIA

Albemarle County

Gallison Hall (Additional Documentation), 24 Farmington Dr., Charlottesville vicinity, AD90002013

Henrico County

Malvern Hill (Additional Documentation), SE of jct. of VA 5 and VA 156, Richmond vicinity, AD69000248

Williamsburg Independent City

Chandler Court and Pollard Park Historic District (Additional Documentation), Roughly bounded by Jamestown Rd., Griffin Ave., Pollard Park, and College of William and Mary Maintenance Yard, Williamsburg, AD96001075

Authority: Section 60.13 of 36 CFR part 60.

Dated: October 6, 2020.
Sherry A. Frear,
Chief, National Register of Historic Places/National Historic Landmarks Program.

[FR Doc. 2020-23002 Filed 10-16-20; 8:45 am]

BILLING CODE 4312-52-P